SOCIAL SECURITY ADMINISTRATION

[Docket No. SSA-2016-0022]

Modifications to the Disability Determination Procedures; Extension of Testing of Some Disability Redesign Features

AGENCY: Social Security Administration.

ACTION: Notice of the extension of tests involving modifications to the disability determination procedures.

SUMMARY: We are announcing the extension of tests involving modifications to disability determination procedures authorized by 20 CFR 404.906 and 416.1406. These rules authorize us to test several modifications to the disability determination procedures for adjudicating claims for disability insurance benefits under title II of the Social Security Act (Act) and for supplemental security income payments based on disability under title XVI of the Act. This notice is our last extension of the “single decisionmaker” test, as we will phase out the test until elimination in 2018. This notice also extends the separate “prototype” test.

DATES: We are extending our selection of cases to be included in these tests from September 23, 2016 until no later than December 28, 2018. At that time, we will publish another notice in the Federal Register to confirm our elimination of the “single decisionmaker” test.

FOR FURTHER INFORMATION CONTACT: Kenneth Williams, Office of Disability Policy, Social Security Administration, 6401 Security Boulevard, Baltimore, MD 21235-6401, (410) 965-0608, for information about this notice. For information on eligibility or filing for benefits, call our national toll-free number, 1-800-772-1213 or TTY 1-800-325-0778, or visit our Internet site, Social Security Online, at http://www.socialsecurity.gov.

SUPPLEMENTARY INFORMATION: Our current rules authorize us to test, individually or in any combination, certain modifications to the disability determination procedures. 20 CFR 404.906 and 416.1406. We conducted several tests under the authority of these rules. In the “single decisionmaker” test, a disability examiner may make the initial disability determination in most cases without obtaining the signature of a medical or psychological consultant. Currently, 19 states and the territory of Guam use the single decisionmaker test. There are 9 states and the territory of Guam that use single decisionmaker as a stand-alone test. The remaining 10 states use single decisionmaker in combination with a separate test that we refer to as “prototype.” Under section 832 of the Bipartisan Budget Act of 2015 (BBA),¹ we are required to end the single decisionmaker test. Therefore, this extension of the single decisionmaker test will provide us the time necessary to take all of the administrative actions needed to reinstate uniform use of medical and psychological consultants.

¹ Public Law 114-74, 129 Stat. 584, 613.

Prototype is a separate test, which we conduct in 10 States. 64 FR 47218. Currently, the prototype combines the single decisionmaker approach described above with the elimination of the reconsideration level of our administrative review process. We will continue to make decisions in these 10 States by maintaining the elimination of the reconsideration level, except that we will comply with the requirements of the BBA by reinstating the use of medical consultants over the course of this extension in those States with the prototype tests. We will notify the public of the progression of our plan through additional notices in the Federal Register.

We extended the period for selecting claims for these tests several times. Most recently, we extended the period from September 25, 2015 to September 23, 2016. 80 FR 47553. We are extending case selection for prototype and single decision maker tests until December 28, 2018. After this date, we will publish another notice in the Federal Register to confirm our elimination of the single decisionmaker test.

Virginia Reno,
Deputy Commissioner for Retirement and Disability Policy.

[FR Doc. 2016-20253 Filed 8-24-16; 8:45 am]

BILLING CODE 4191-02-P